DEPARTMENT OF DEFENSE

Department of the Air Force

Notice Is Given of the Names of Members of the Performance Review Board for the Department of the Air Force

AGENCY: Department of the Air Force, Department of Defense.

ACTION: Notice.

SUMMARY: Notice is given of the names of members of the Performance Review Board for the Department of the Air Force.

DATES: Effective Date: November 1, 2015.

SUPPLEMENTARY INFORMATION: Pursuant to 5 U.S.C. 4314(c) (1-5), the Department of the Air Force (AF) announces the appointment of members to the AF's Senior Executive Service (SES) Performance Review Board (PRB). Appointments are made by the authorizing official. Each board member shall review and evaluate performance scores provided by the SES' immediate supervisor. Performance standards must be applied consistently across the AF. The board will make final recommendations to the authorizing official relative to the performance of the executive.

The members of the 2015 Performance Review Board for the U.S. Air Force are:

1. Board President—Gen McDew, Commander, United States Transportation Command.

2. Gen Goldfein, Vice Chief of Staff of the Air Force.

3. Honorable Lisa Disbrow, Under Secretary of the Air Force.

4. Honorable Miranda Ballentine, Assistant Secretary of the Air Force for Installations, Environment, and Logistics.

5. Lt Gen James McLaughlin, Deputy Commander at United States Cyber Command.

6. Lt Gen Andrew Busch, Director, Defense Logistics Agency.

7. Ms. Thomas, Deputy Chief Management Officer of the Air Force.

8. Mr. Gill, Executive Director, Air Force Materiel Command.

9. Mr. Hartley, Principal Deputy Assistant Secretary of the Air Force for Installations, Environment and Energy.

10. Mr. Bennett, Principal Deputy Assistant Secretary of the Air Force for Financial Management and Comptroller.

11. Mr. Lombardi, Principal Deputy Assistant Secretary of the Air Force (Acquisition).

12. Mr. Corsi, Assistant Deputy Chief of Staff for Manpower, Personnel and Services.

13. Mr. Salvatori, Director, Capabilities Management Office.

14. Mr. Geurts, Acquisition Executive, U.S. Special Operations Command.

15. Mr. Fedrigo, Deputy Assistant Secretary of the Air Force for Reserve Affairs and Airman Readiness.

16. Ms. Kay, Director of Security, Special Program Oversight and Information Protection. Additionally, all career status Air Force Tier 3 SES members not included in the above list are eligible to serve on the 2015 Performance Review Board and are hereby nominated for inclusion on an ad hoc basis in the event of absence(s).

FOR FURTHER INFORMATION CONTACT: Please direct any written comments or requests for information to Dr. Daramia Hinton, Deputy Director, Senior Executive Management, AF/DPS, 1040 Air Force Pentagon, Washington, DC 20330-1040 (PH: 703-695-7677; or via email at daramia.t.hinton.civ@mail.mil).

Henry Williams,
Acting, Air Force Federal Register Liaison Officer.

[FR Doc. 2015-22889 Filed 9-10-15; 8:45 am]

BILLING CODE 5001-10-P